DEPARTMENT OF HEALTH AND HUMAN SERVICES

Office of Global Affairs: Stakeholder Listening Session on Amendments to the International Health Regulations (2005)

ACTION: Notice of public listening session; request for comments.

DATES: The listening session will be held on Tuesday, June 20th, 2023, from 12:00 p.m. to 2:00 p.m., Eastern Daylight Time.

Place: The session will be held virtually, with online and dial-in information shared with registered participants.

Status: This meeting is open to the public but requires RSVP to OGA.RSVP1@hhs.gov by Friday, June 9, 2023. See RSVP section below for details.

SUPPLEMENTARY INFORMATION:

Purpose: The U.S. Department of Health and Human Services (HHS) is charged with leading U.S. participation in the Working Group on the Amendments to the International Health Regulations (2005) and will convene a Stakeholder Listening Session.

The World Health Assembly (WHA) originally adopted the International Health Regulations (IHR) in 1969. The regulations were amended multiple times, resulting in the current IHR (2005). The purpose of IHR (2005) is to prevent, protect against, control, and provide public health response to the international spread of disease. In May 2021, Member States set up a Working Group on Strengthening WHO Preparedness and Response to Health Emergencies (WGPR) with the intent of strengthening WHO's capacities and ability to support Member States in the prevention and response of public health emergencies. The WGPR produced a report with key findings and recommendations that included amending the IHR. The United States submitted a package of targeted amendments to the IHR for consideration. These amendments seek to improve early warnings and alerts, transparency, and accountability in a manner that does not compromise national security or sovereignty. Other countries have also submitted proposals that the United States seek feedback from stakeholders on the proposed amendments. The Stakeholder Listening Session is designed to seek input from stakeholders and subject-matter experts on these proposals and to help inform and prepare the U.S. government for engagement with the Working Group on the Amendments to the International Health Regulations (2005).

Matters to be Discussed: The listening session will discuss potential amendments to the IHR (2005). Topics will include those amendments currently under consideration by the Working Group. An Article-by-Article Compilation of Proposed Amendments to the International Health Regulations (2005) can be found here: https://apps.who.int/gb/wgihr/pdf_files/wgihr1/WGIHR_Compilation-en.pdf. Participation is welcome from stakeholder communities.

RSVP: Persons seeking to speak at the listening session must register by Wednesday, June 14, 2023. Persons seeking to attend the listening session in a listen-only capacity must RSVP by Thursday, June 13, 2023.

Registrants must include their full name, email address, and organization, if any, and indicate whether they are registering as a listen-only attendee or as a speaker participant to OGA.RSVP1@hhs.gov.

Requests to participate as a speaker must include all of the following:

1. The name and email address of the person desiring to participate

2. The organization(s) that person represents, if any

3. Identification of the primary article(s) of interest

Other Information: This listening session will be recorded for the benefit of the members of the US Working Group on Amendments to the IHR (2005).

Written comments should be emailed to OGA.RSVP1@hhs.gov with the subject line “Written Comment Re: Stakeholder Listening Session 2 for the IHR” by Friday, June 30, 2023.

We look forward to your comments on proposed amendments to the International Health Regulations (2005).

Susan Kim,
Chief of Staff, Office of Global Affairs.

[FR Doc. 2023-07812 Filed 4-12-23; 8:45 am]

BILLING CODE 4150-38-P